DEPARTMENT OF EDUCATION

[Docket No. ED-2017-ICCD-0021]

Agency Information Collection Activities; Comment Request; Consolidated State Plan

AGENCY: Office of Elementary and Secondary Education (OESE), Department of Education (ED).

ACTION: Notice.

SUMMARY: In accordance with the Paperwork Reduction of 1995, ED is requesting the Office of Management and Budget (OMB) to conduct an emergency review of a new information collection.

DATES: Approval by the OMB has been requested by 3/13/2017. A regular clearance process is also hereby being initiated. Interested persons are invited to submit comments on or before May 12, 2017.

ADDRESSES: To access and review all the documents related to the information collection listed in this notice, please use http://www.regulations.gov by searching the Docket ID number ED-2017-ICCD-0021. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 226-62, Washington, DC 20202-4537.

FOR FURTHER INFORMATION CONTACT: For specific questions related to collection activities, please contact Melissa Siry, 202-260-0926.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Consolidated State Plan.

OMB Control Number: 1810-0576.

Type of Review: A revision to an existing information collection.

Respondents/Affected Public: State, Local and Tribal Governments.

Total Estimated Number of Annual Responses: 52.

Total Estimated Number of Annual Burden Hours: 108,155.

Abstract: Section 8302 of the Elementary and Secondary Education Act (ESEA), as amended by the Every Student Succeeds Act (ESSA), permits each SEA, in consultation with the Governor, to apply for program funds through submission of a consolidated State plan or a consolidated State application (in lieu of individual program State plans). The purpose of consolidated State plans as defined in ESEA is to improve teaching and learning by encouraging greater cross-program coordination, planning, and service delivery; to enhance program integration; and to provide greater flexibility and less burden for State educational agencies.

Additional Information: This is a request for an emergency clearance to enable Office of Elementary and Secondary Education (OESE) to collect critical information for the Consolidated State Plan, the instrument through which State educational agencies (SEAs) apply for funding under the following programs:

Elementary and Secondary Education Act of 1965 (ESEA)

Title I, Part A Improving Basic Programs Operated by Local Educational Agencies

Title I, Part B, Section 1201 Grants for State Assessments and Related Activities

Title I, Part C Education of Migratory Children

Title I, Part D Prevention and Intervention Programs for Children and Youth Who Are Neglected, Delinquent, or At-Risk

Title II, Part A Supporting Effective Instruction

Title III, Part A English Language Acquisition, Language Enhancement, and Academic Achievement

Title IV, Part A Student Support and Academic Enrichment Grants

Title IV, Part B 21st Century Community Learning Centers

Title VI, Part B, Subpart 2: Rural and Low-Income School Program McKinney-Vento Homeless Assistance Act of 1987

Title VII, Subtitle B Education for Homeless Children and Youths Program

On December 10, 2015, the programs above were reauthorized by the Elementary and Secondary Education Act of 1965 (ESEA), as amended by the Every Student Succeeds Act (ESSA). On November 29, 2016, the Department received information collection clearance approval for a Consolidated State Plan aligned to the Notice of Final Regulations for Accountability and State Plans published in the Federal Register at 81 FR 86076. Congress is currently considering a joint resolution of disapproval under the Congressional Review Act (CRA) (5 U.S.C. 801-808) to overturn these regulations. If a resolution of disapproval is enacted, these regulations “shall have no force or effect.”

Pursuant to 5 CFR 1320.13, the Department requests that OMB review this collection under its emergency procedures. This request for emergency clearance is based on two factors: (1) The joint resolution of disapproval under the CRA presents an unanticipated event beyond the Department's control; and (2) further uncertainty of the requirements for submission of consolidated State plans would prevent States from implementing the new ESSA requirements in school year 2017-2018.

Section 8302 of the ESEA, as amended by the ESSA, permits each SEA, in consultation with the Governor, to apply for program funds through submission of a consolidated State plan (in lieu of individual program State plans). The purpose of Consolidated State Plans as defined in ESEA is to improve teaching and learning by encouraging greater cross-program coordination, planning, and service delivery; to enhance program integration; and to provide greater flexibility and less burden for SEAs. The Department will use the information from the Consolidated State Plan as the basis for approving funding under the included programs for the duration of the reauthorization. Failure to collect this information in a timely manner will bar the Department from receiving the comprehensive data and information that is necessary to fulfill its fiduciary and oversight responsibilities, and endanger the missions of the individual programs.

Dated: March 7, 2017.
Stephanie Valentine,
Acting Director, Information Collection Clearance Division, Office of the Chief Privacy Officer (OCPO), Office of Management.

[FR Doc. 2017-04792 Filed 3-10-17; 8:45 am]

BILLING CODE 4000-01-P